COMMISSION ON CIVIL RIGHTS

Notice of Public Meetings of the Kentucky Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Kentucky Advisory Committee (Committee) will hold two virtual briefings hearings to hear testimony from advocates and others on bail reform in Kentucky.

DATES: The hearings will take place on:

• (Panel II) Thursday August 20, 12 p.m.-2:00 p.m. EST

• (Panel III) Tuesday August 25, 12 p.m.-2:00 p.m. EST

Public Call Information: (both panels) Dial: 800-367-2403; Conference ID: 4778000.

FOR FURTHER INFORMATION CONTACT: Barbara Delaviez, DFO, at bdelaviez@usccr.gov or 202-539-8246.

SUPPLEMENTARY INFORMATION: Members of the public can listen to the discussion. These meetings are free and open to the public through the above listed toll-free number. Members of the public may join through the above listed toll-free number. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be emailed to Carolyn Allen at callen@usccr.gov.in the Regional Program Unit Office/Advisory Committee Management Unit. Persons who desire additional information may contact the Regional Programs Unit Office at 202-539-8246.

Records generated from this meeting may be inspected and reproduced at the Regional Programs Unit Office, as they become available, both before and after the meeting. Records of the meeting will be available via https://www.facadatabase.gov/FACA/FACAPublicViewCommitteeDetails?id=a10t0000001gzlBAAQ under the Commission on Civil Rights, Kentucky Advisory Committee link. Persons interested in the work of this Committee are also directed to the Commission's website, http://www.usccr.gov, or may contact the Regional Programs Unit office at the above email or

Agenda

1. Opening

2. Panelist Presentations

3. Committee Q&A

4. Open Session

5. Next Steps/Other Business

6. Adjournment

Dated: July 24, 2020.
David Mussatt,
Supervisory Chief, Regional Programs Unit.

[FR Doc. 2020-16438 Filed 7-28-20; 8:45 am]

BILLING CODE P